FEDERAL COMMUNICATIONS COMMISSION

47 CFR Part 2

Frequency Allocations and Radio Treaty Matters; General Rules and Regulations

CFR Correction

In Title 47 of the Code of Federal Regulations, parts 0 to 19, revised as of October 1, 2001, in § 2.106, on page 442, page 45 of the Table of Frequency Allocations is a duplicate of page 54. The correct page 45 reads as follows:

§ 2.106 Table of Frequency Allocations.

* * * * *

* * * * *

[FR Doc. 02-55510 Filed 3-20-02; 8:45 am]

BILLING CODE 1505-01-D